DEPARTMENT OF ENERGY

Federal Energy Regulatory Commission

[Docket No. PF09-13-000]

East Tennessee Natural Gas, LLC; Notice of Intent To Prepare an Environmental Assessment for the Proposed Northeastern Tennessee Project and Request for Comments on Environmental Issues

October 22, 2009.

The staff of the Federal Energy Regulatory Commission (FERC or Commission) will prepare an environmental assessment (EA) that will discuss the environmental impacts of the East Tennessee Natural Gas, LLC's (ETNG) proposed Northeastern Tennessee Project (Project). The proposed Project would involve the construction, replacement and operation of approximately 28 miles of natural gas transmission pipeline in southwestern Virginia and northeastern Tennessee. The EA will be used by the Commission in its decision-making process to determine whether the Project is in the public convenience and necessity.

This notice announces the opening of the scoping process we ¹ will use to gather input from the public and interested agencies on the proposed Project. Your input will help the Commission staff determine which issues need to be evaluated in the EA. Please note that the scoping period will close on November 20, 2009.

¹ “We”, “us”, and “our” refer to the environmental staff of the Office of Energy Projects (OEP).

This notice is being sent to affected landowners; federal, state, and local government representatives and agencies; elected officials; environmental and public interest groups; Native American Tribes; other interested parties; and local libraries and newspapers. State and local government representatives are asked to notify their constituents of this planned project and encourage them to comment on their areas of concern.

If you are a landowner receiving this notice, you may be contacted by an ETNG representative about the acquisition of an easement across your property. ETNG would seek to negotiate a mutually acceptable agreement for the rights to construct and operate the proposed natural gas transmission pipeline across your property. If the proposed Project is approved by the Commission, that approval would convey with it the right of eminent domain. Therefore, if easement negotiations fail to produce an agreement, ETNG could initiate condemnation proceedings in accordance with state law.

A fact sheet prepared by the FERC entitled “An Interstate Natural Gas Facility On My Land? What Do I Need To Know?” is available for viewing on the FERC internet Web site at http://www.ferc.gov. This fact sheet addresses a number of typically asked questions, including the use of eminent domain and how to participate in the Commission's proceedings.

Summary of the Proposed Project

ETNG proposes to:

• Construct and operate approximately 8.53 miles of 24-inch-diameter natural gas transmission pipeline parallel to an existing Tennessee Valley Authority (TVA) electrical transmission powerline in Greene and Hawkins Counties, Tennessee;

• Construct and operate approximately 7.80 miles of 24-inch-diameter natural gas transmission pipeline loop within or immediately adjacent to existing ETNG natural gas transmission pipeline easement in Sullivan, Washington and Greene Counties, Tennessee;

• Replace approximately 2.37 miles of existing 12-inch-diameter natural gas transmission pipeline with 24-inch-diameter natural gas transmission pipeline in Sullivan County, Tennessee;

• Replace approximately 9.30 miles of existing 8-inch-diameter natural gas transmission pipeline with 24-inch-diameter natural gas transmission pipeline in Washington County, Virginia and Sullivan County, Tennessee; and

• Modify piping at the Glade Spring and Flatwoods Compressor Stations in Washington County, Virginia and Greene County, Tennessee, respectively.

ETNG also proposes to:

• Construct a meter facility at the terminus of the proposed 8.53-mile, 24-inch-diameter natural gas transmission pipeline; and

• Construct and operate related natural gas transmission pipeline facilities including mainline valves and pipeline inspection launching and receiving facilities.

The locations of the proposed facilities are shown in Appendix 1.

According to ETNG, the proposed facilities are necessary to provide natural gas service to TVA's proposed North East Plant power generating facility in Hawkins County, Tennessee.

If approved, ETNG anticipates placing the proposed facilities in-service by 2012.

Land Requirements

Construction and replacement of the proposed pipeline facilities would require the use of a temporary construction right-of-way ranging in width from 100- to 125-feet. Additional temporary workspace would also be required to construct and replace the proposed pipeline, metering facility, compressor station piping and related natural gas transmission pipeline facilities. Operation of the proposed pipeline facilities would require the permanent use of a 50-foot-wide maintenance right-of-way. Additionally, the operation of the metering facility and the related natural gas transmission pipeline facilities would require the permanent use of lands.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we will discuss impacts that could occur as a result of the construction and operation of the proposed facilities. We will also evaluate possible alternatives to the proposed Project or portions of the Project, and make recommendations on how to avoid or mitigate impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission. To ensure your comments are considered, please carefully follow the instructions in the public participation section below.

With this NOI, we are asking federal, state, and local agencies with jurisdiction and/or special expertise with respect to environmental issues to formally cooperate with us in the preparation of the EA. These agencies may choose to participate once they have evaluated the proposal relative to their responsibilities. Additional agencies that would like to request cooperating agency status should follow the instructions for filing comments provided under the Public Participation section of this NOI.

Public Participation

You can make a difference by providing us with your specific comments or concerns about the Project. Your comments should focus on the potential environmental effects, reasonable alternatives, and measures to avoid or lessen environmental impacts. The more specific your comments, the more useful they will be. To ensure that your comments are timely and properly recorded, please send in your comments so that they will be received in Washington, DC on or before November 20, 2009.

For your convenience, there are three methods which you can use to submit your comments to the Commission. In all instances please reference the project docket number PF09-13-000 with your submission. The Commission encourages electronic filing of comments and has dedicated staff to assist you at (202) 502-8258 or efiling@ferc.gov.

(1) You may file your comments electronically by using the Quick Comment feature located on the Commission's internet Web site (www.ferc.gov) under the link to Documents and Filings. A Quick Comment is an easy method for interested persons to submit text-only comments on a project;

(2) You may also file your comments electronically by using the eFiling feature located on the Commission's internet Web site (http://www.ferc.gov) under the link to Documents and Filings. eFiling involves preparing your submission in the same manner as you would if filing on paper, and then saving the file on your computer's hard drive. You will attach that file as your submission. New eFiling users must create an account by clicking on “Sign up” or “eRegister.” You will be asked to select the type of filing you are making. A comment on a particular project is considered a “Comment on a Filing”; or

(3) You may send your comments via U.S. mail to the Commission by sending an original and two copies of your letter to: Kimberly D. Bose, Secretary, Federal Energy Regulatory Commission, 888 First St., NE., Room 1A, Washington, DC 20426.

Label one copy of the comments for the attention of Gas Branch 2, PJ11.2.

Environmental Mailing List

An effort is being made to send this notice to all individuals, organizations, and government entities interested in and/or potentially affected by the proposed project. This includes all landowners who are potential right-of-way grantors, whose property may be used temporarily for project purposes.

If you do not want to send comments at this time but still want to remain on our mailing list, please return the Information Request (Appendix 2). If you do not return the Information Request, you will be taken off the mailing list.

Becoming an Intervenor

In addition to involvement in the EA scoping process, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site.

Additional Information

Additional information about the project is available from the Commission's Office of External Affairs, at (866) 208-FERC or on the FERC Internet Web site (http://www.ferc.gov) using the eLibrary link. Click on the eLibrary link, click on “General Search” and enter PF09-13-000 in the Docket Number field. Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or route evaluations, if applicable, will be posted on the Commission's calendar located at http://www.ferc.gov/EventCalendar/EventsList.aspx along with other related information.

Kimberly D. Bose,
Secretary.

[FR Doc. E9-25975 Filed 10-28-09; 8:45 am]

BILLING CODE 6717-01-P